DEPARTMENT OF TRANSPORTATION

Pipeline and Hazardous Materials Safety Administration

Federal Motor Carrier Safety Administration

49 CFR Parts 177 and 392

[Docket Numbers PHMSA-2010-0319 (HM-255) & FMCSA-2006-25660]

RIN 2137-AE69 & 2126-AB04

Highway-Rail Grade Crossing; Safe Clearance

AGENCY: Pipeline and Hazardous Materials Safety Administration (PHMSA), and Federal Motor Carrier Safety Administration (FMCSA), U.S. Department of Transportation (DOT).

ACTION: Notice of proposed rulemaking (NPRM); reopening of comment period.

SUMMARY: On March 1, 2011, the Commercial Vehicle Safety Alliance (CVSA) requested that PHMSA and FMCSA extend the comment period for the Highway-Rail Grade Crossing; Safe Clearance Notice of Proposed Rulemaking, which was published on January 28, 2011, by 60 days. CVSA believes the extension is necessary to gain feedback from its members who will be attending the CVSA Spring Workshop Meeting from April 11-14, 2011. This notice reopens the public comment period for the NPRM from March 29, 2011, to April 29, 2011.

DATES: Comments on the NPRM are due by April 29, 2011.

FOR FURTHER INFORMATION CONTACT: At FMCSA: Mr. Thomas Yager, Driver and Carrier Operations; or MCPSD@dot.gov. Telephone (202) 366-4325. Office hours are from 7:45 a.m. to 4:15 p.m., e.t., Monday through Friday, except Federal holidays. At PHMSA: Mr. Ben Supko, Office of Hazardous Materials Standards, (202) 366-8553, Pipeline and Hazardous Materials Safety Administration, U.S. Department of Transportation, 1200 New Jersey Avenue, SE., Washington, DC 20590 0001.

SUPPLEMENTARY INFORMATION:

On March 1, 2011, the Commercial Vehicle Safety Alliance (CVSA) requested that PHMSA and FMCSA extend the comment period for the Highway-Rail Grade Crossing; Safe Clearance Notice of Proposed Rulemaking, which was published on January 28, 2011 (76 FR 5120), by 60 days. CVSA believes the extension is necessary to gain feedback from its members who will be attending the CVSA Spring Workshop Meeting from April 11-14, 2011.

PHMSA and FMCSA believe that other potential commenters to this rulemaking will benefit from an extension as well, and that 30 days is sufficient time to allow CVSA to gain feedback from its members during its Spring Workshop and prepare its comments. Accordingly, PHMSA and FMCSA reopens the comment period for all comments on the NPRM and its related documents to April 29, 2011.

Issued in Washington, DC, on March 25, 2011, under authority delegated in 49 CFR part 1.
By the Federal Motor Carrier Safety Administration.
William Bronrott,
Deputy Administrator.
By the Pipeline and Hazardous Materials Safety Administration.
Bizunesh Scott,
Chief Counsel.

[FR Doc. 2011-7554 Filed 3-28-11; 11:15 am]

BILLING CODE 4910-EX-P